DEPARTMENT OF ENERGY

Federal Energy Regulatory Commission

[Docket No. RP02-404-001]

Viking Gas Transmission Company; Notice of Compliance Filing

October 4, 2002.

Take notice that on September 30, 2002, Viking Gas Transmission Company (Viking) tendered for filing as part of its FERC Gas Tariff, First Revised Volume No. 1, the following tariff sheets to become effective October 1, 2002:

Substitute Tenth Revised Sheet No. 39

Substitute Eighth Revised Sheet No. 41A

Substitute Third Revised Sheet No. 46A

Viking states that the purpose of this filing is to remove tariff language that is currently pending before the Commission in Docket No. RP00-497-000 from tariff sheets that were accepted by the Commission in its September 26, 2002, Letter Order issued in Docket No. RP02-404-000.

Viking states that copies of the filing have been mailed to all of its jurisdictional customers, to affected state regulatory commissions and to the parties listed on the official service list in this proceeding.

Any person desiring to protest said filing should file a protest with the Federal Energy Regulatory Commission, 888 First Street, NE, Washington, DC 20426, in accordance with section 385.211 of the Commission's rules and regulations. All such protests must be filed in accordance with Section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY (202) 502-8659. The Commission strongly encourages electronic filings. See, 18 CFR 385.2001(a)(1)(iii) and the instructions on the Commission's web site under the “e-Filing” link.

Magalie R. Salas,
Secretary.

[FR Doc. 02-25804 Filed 10-10-02; 8:45 am]

BILLING CODE 6717-01-P